DEPARTMENT OF THE TREASURY

Submission for OMB Review; Comment Request

August 9, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before September 14, 2006 to be assured of consideration.

Internal Revenue Service (IRS)

OMB Number: 1545-0228.

Type of Review: Extension.

Title: Installment Sale Income.

Form: 6252.

Description: Information is needed to figure and report an installment sale for a casual or incidental sale of personal property, and a sale of real property by someone not in the business of selling real estate. Data is used to determine whether the installment sale has been properly reported and the correct amount of profit is included in income on the taxpayer's return.

Respondents: Business and other for-profit institutions.

Estimated Total Burden Hours: 1,597,008 hours.

OMB Number: 1545-0314.

Type of Review: Extension.

Title: Form 6466, Transmittal of Forms W-4 Reported Magnetically/ Electronically; Form 6467, Transmittal of Forms W-4 Reported Magnetically/Electronically (Continuation).

Form: 6466 and 6467.

Description: Under Regulation Section 31.3402(f)(2)-1(g), employers are required to submit certain withholding certificates (Form W-4) to the IRS. Transmittal Form 6466 and the continuation sheet Form 6467 are submitted by an employer, or authorized agent of the employer, who will be reporting submissions of Form W-4 on magnetic/electronic media.

Respondents: Business and other for-profit institutions.

Estimated Total Burden Hours: 133 hours.

Clearance Officer: Glenn P. Kirkland, Internal Revenue Service, Room 6516, 1111 Constitution Avenue, NW., Washington, DC 20224, (202) 622-3428.

OMB Reviewer: Alexander T. Hunt Office of Management and Budget, Room 10235, New Executive Office Building, Washington, DC 20503, (202) 395-7316.

Robert Dahl,
Treasury PRA Clearance Officer.

[FR Doc. E6-13309 Filed 8-14-06; 8:45 am]

BILLING CODE 4830-01-P